COMMITTEE FOR THE IMPLEMENTATION OF TEXTILE AGREEMENTS

Request For Public Comments on Bilateral Textile Consultations With the Government of Belarus

April 26, 2002.

AGENCY: Committee for the Implementation of Textile Agreements (CITA)

ACTION: Notice.

FOR FURTHER INFORMATION CONTACT: Naomi Freeman, International Trade Specialist, Office of Textiles and Apparel, U.S. Department of Commerce, (202) 482-4212. For information on the categories for which consultations have been requested, refer to the Office of Textiles and Apparel website at http://otexa.ita.doc.gov.

SUPPLEMENTARY INFORMATION:

Authority: Section 204 of the Agricultural Act of 1956, as amended (7 U.S.C. 1854); Executive Order 11651 of March 3, 1972, as amended.

On April 24, 2002, under Section 204 of the Agricultural Act of 1956, the Government of the United States requested consultations with the Government of Belarus with respect to women’s and girls’ wool coats in Category 435 and women’s and girls wool slacks, breeches and shorts in Category 448, produced or manufactured in Belarus.

The purpose of this notice is to advise the public that, if no solution is agreed upon in consultations with the Government of Belarus, the Government of the United States reserves its right to establish a twelve-month limit for the period beginning on April 24, 2002, and extending through April 23, 2003, of not less than 55,021 dozen for Category 435 and not less than 23,595 dozen for Category 448 for the entry and withdrawal from warehouse for consumption of textile products in these categories, produced or manufactured in Belarus.

Anyone wishing to comment or provide data or information on imports from Belarus in Categories 435 and 448 is invited to submit 10 copies of such comments or information to James C. Leonard III, Chairman, Committee for the Implementation of Textile Agreements, U.S. Department of Commerce, Washington, DC 20230; ATTN: Becky Geiger. The comments received will be considered in the context of the consultations with the Government of Belarus.

Because the exact timing of the consultations is not yet certain, comments should be submitted promptly. Comments or information submitted in response to this notice will be available for public inspection in the Office of Textiles and Apparel, room H3100, U.S. Department of Commerce, 14th and Constitution Avenue, NW., Washington, DC.

Further comments may be invited regarding particular commentary or information received from the public which the Committee for the Implementation of Textile Agreements considers appropriate for further consideration.

This solicitation of comments is not a waiver in any respect of the exemption contained in 5 U.S.C. 553(a)(1) relating to matters which constitute “a foreign affairs function of the United States.”

The United States remains committed to finding a solution concerning these categories. Should such a solution be reached in consultations with the Government of Belarus, further notice will be published in the Federal Register.

A description of the textile and apparel categories in terms of HTS numbers is available in the CORRELATION: Textile and Apparel Categories with the Harmonized Tariff Schedule of the United States (see Federal Register notice 66 FR 65178, published on December 18, 2001). Also see 66 FR 53783, published on October 24, 2001.

James C. Leonard III,
Chairman, Committee for the Implementation of Textile Agreements.

Statement of Support for the Request for Consultations With Belarus Pursuant to Section 204 of the Agricultural Act of 1956 Regarding Women’s and Girls’ Wool Coats, Category 435 Imports

Category 435 imports from Belarus are undermining the implementation of the World Trade Organization (WTO) Agreement on Textiles and Clothing (ATC). The introduction of a limit on Category 435 imports from Belarus is necessary and appropriate to carry out the ATC, and is relevant to the enforcement of the ATC. Current imports from Belarus exceed imports from a number of WTO countries, imports that are limited by agreed levels (see Table I). In fact, calendar year 2001 Category 435 imports from Belarus exceed the agreed levels of 15 countries (see Table II). The orderly flow of trade into the U.S. women’s and girls’ wool coat market is being disrupted and, if Category 435 imports from Belarus are not limited, the orderly integration process called for by the ATC will be impossible.

U.S. imports of women’s and girls’ wool coats, Category 435, from Belarus during calendar year 2001 reached 55,021 dozens, over seven times Belarus’ 1994 level, and 42 percent above the 38,743 dozens imported during the calendar year 2000. Belarus started shipping women’s and girls’ wool coats to the U.S. in 1994, shipping only 7,144 dozens. Belarus is now the 9th largest supplier in Category 435 accounting for 3.5 percent of calendar year 2001 world imports.

Total U.S. imports of women’s and girls’ wool coats, Category 435, reached 1,560,294 dozens in the calendar year 2001 and represent nearly one and a half times the level of U.S. production.

Thailand is a WTO member with whom the United States has negotiated a specific limit. Belarus’ calendar year 2001 import level is higher than Thailand’s calendar year 2001 import level. Moreover, Belarus’ import level for calendar year 2001 exceeds the negotiated specific limits of Uruguay, Indonesia, Korea, Hungary, Taiwan, Bulgaria, China, Slovak Republic, Sri Lanka, Malaysia, Poland, Romania, Singapore, and the Czech Republic, all of which are WTO member countries, and the negotiated specific limit of Macedonia, which is not a WTO member.

The sharp and substantial increase of Category 435 imports from Belarus is disrupting the orderly flow of trade into the U.S. women’s and girls’ wool coat market. The increasing share of unrestrained women’s and girls’ wool coat imports from Belarus is creating an inequitable situation in Category 435. Belarus, by shipping in excess of many WTO member countries that have negotiated quota agreements with the United States under the ATC, is disrupting the orderly flow of trade and creating an inequitable situation.

After undertaking a comparative assessment of Belarus’ Category 435 imports and imports from other sources, the United States has determined that a request for consultations is necessary to correct the inequity between controlled and uncontrolled suppliers in the flow of trade into the U.S. women’s and girls’ wool coat market and to implement and maintain the integrity of the ATC.

Table I.—U.S. Import Levels From Belarus and WTO Countries With Specific Limits Whose Current Import Levels Are Below Belarus Women’s and Girls’ Wool Coats—Category 435
[1,000 Dozens]
Country | Imports Calendar Year 2001 | Percent of Total | Country Rank
World | 1,560 | 100
Belarus | 55 | 3.5 | 9
WTO Countries:
Thailand | 54 | 3.4 | 10
Korea | 38 | 2.5 | 14
Taiwan | 28 | 1.8 | 16
Romania | 17 | 1.1 | 24
Malaysia | 15 | 0.9 | 25
Sri Lanka | 14 | 0.9 | 26
Poland | 9 | 0.6 | 31
Hungary | 8 | 0.5 | 33
Slovakia | 8 | 0.5 | 34
Uruguay | 2 | 0.2 | 46

Table II.—2001 Specific Limits (SL) Below Belarus' Calendar Year 2001 Imports Women's and Girls' Wool Coats—Category 435
[1,000 Dozens]
Belarus 55.0
WTO Countries SL's:
Uruguay 54.8
Indonesia 49
Korea 37
Hungary 27
Taiwan 26
Bulgaria 25
China 25
Slovak Rep. 18
Sri Lanka 16
Malaysia 16
Poland 14
Romania 10
Singapore 7
Czech. Rep. 4
Non-WTO Countries SL’s:
Macedonia 30

Statement of Support for the Request for Consultations With Belarus Pursuant to Section 204 of the Agricultural Act of 1956 Regarding Women’s and Girls’ Wool Slacks, Breeches and Shorts Category 448 Imports

Category 448 imports from Belarus are undermining the implementation of the World Trade Organization (WTO) Agreement on Textiles and Clothing (ATC), and the introduction of a limit on Category 448 imports from Belarus is necessary and appropriate to carry out the ATC, and is relevant to the enforcement of the ATC. Current imports from Belarus exceed imports from a number of WTO countries, imports that are limited by agreed levels (see Table I). In fact, calendar year Category 448 imports from Belarus exceed the agreed levels of four countries (see Table II). The orderly flow of trade into the U.S. women’s and girls’ wool slacks, breeches and shorts market is being disrupted and, if Category 448 imports from Belarus are not limited, the orderly integration process called for by the ATC will be impossible.

U.S. imports of women’s and girls’ wool slacks, breeches and shorts, Category 448, from Belarus during calendar year 2001 reached 23,595 dozens, over thirteen times Belarus’ 1995 level, and 29 percent above the 18,328 dozens imported during the calendar year 2000. Belarus started shipping women’s and girls’ wool slacks, breeches and shorts to the U.S. in 1995, shipping only 1,791 dozens. Belarus is now the 14th largest supplier in Category 448 accounting for 2.3 percent of calendar year 2001 world imports.

Total U.S. imports of women’s and girls’ wool slacks, breeches and shorts, Category 448, reached 1,019,208 dozens in the calendar year 2001 and represent nearly two and one half times the level of U.S. production.

Romania and Hungary are WTO members with whom the United States has negotiated specific limits. Belarus’ calendar year 2001 import level is higher than the calendar year 2001 import levels of Romania and Hungary. Moreover, Belarus’ import level for calendar year 2001 exceeds the negotiated specific limits of China, Indonesia, Taiwan, Egypt, and the unilateral restraint of Burma, all of which are WTO member countries.

The sharp and substantial increase of Category 448 imports from Belarus is disrupting the orderly flow of trade into the U.S. women’s and girls’ wool slacks, breeches and shorts market. The increasing share of unrestrained women’s and girls’ wool slacks, breeches and shorts imports from Belarus is creating an inequitable situation in Category 448. Belarus, by shipping in excess of many WTO member countries that have negotiated quota agreements with the United States under the ATC, is disrupting the orderly flow of trade and creating an inequitable situation.

After undertaking a comparative assessment of Belarus’ Category 448 imports and imports from other sources, the United States has determined that a request for consultations is necessary to correct the inequity between controlled and uncontrolled suppliers in the flow of trade into the U.S. women’s and girls’ wool slacks, breeches and shorts market and to implement and maintain the integrity of the ATC.

Table I.—U.S. Import Levels From Belarus and WTO Countries With Specific Limits Whose Current Import Levels Are Below Belarus Women’s and Girls’ Wool Slacks, Breeches and Shorts—Category 448
[1,000 Dozens]
Country | Imports Calendar Year 2001 | Percent of Total | Country Rank
World | 1,019 | 100
Belarus | 24 | 2.3 | 14
WTO Countries:
Indonesia | 23 | 2.3 | 15
Romania | 22 | 2.1 | 16
Taiwan | 19 | 1.8 | 20
Hungary | 12 | 1.2 | 24

Table II.—2001 Specific Limits (SL) Below Belarus’ Calendar Year 2001 Imports Women’s and Girls’ Wool Slacks, Breeches and Shorts—Category 448
[1,000 Dozens]
Belarus 23.6
WTO Countries SL's:
China 22.5
Indonesia 21.9
Taiwan¹ 21.2
Egypt 20.1
Burma² 2.5
¹ SL Categories 447 and 448.
² Unilateral Restraint Level.

[FR Doc. 02-10756 Filed 4-26-02; 2:33 pm]

BILLING CODE 3510-DR-S